DEPARTMENT OF ENERGY

Federal Energy Regulatory Commission

Combined Notice of Filings

Take notice that the Commission has received the following Natural Gas Pipeline Rate and Refund Report filings:

Filings Instituting Proceedings

Docket Numbers: RP12-1059-000.

Applicants: Dominion Transmission, Inc.

Description: DTI—September 25, 2012 Negotiated Rate Agreements to be effective 10/1/2012.

Filed Date: 9/25/12.

Accession Number: 20120925-5026.

Comments Due: 5 p.m. ET 10/9/12.

Docket Numbers: RP12-1060-000.

Applicants: Kinder Morgan Interstate Gas Transmission.

Description: Neg Rate 2012-09-21. MGE to be effective 10/1/2012.

Filed Date: 9/25/12.

Accession Number: 20120925-5034.

Comments Due: 5 p.m. ET 10/9/12.

Docket Numbers: RP12-1061-000.

Applicants: Tres Palacios Gas Storage LLC.

Description: Tres Palacios Gas Storage LLC—Modify Enhanced Interruptible Wheeling Service to be effective 11/1/2012.

Filed Date: 9/25/12.

Accession Number: 20120925-5104.

Comments Due: 5 p.m. ET 10/9/12.

Docket Numbers: RP12-1062-000.

Applicants: Texas Eastern Transmission, LP.

Description: Order 587-V Compliance Filing (NAESB Version 2.0 Standards) TETLP to be effective 12/1/2012.

Filed Date: 9/25/12.

Accession Number: 20120925-5131.

Comments Due: 5 p.m. ET 10/9/12.

Docket Numbers: RP12-1063-000.

Applicants: Algonquin Gas Transmission, LLC.

Description: Order 587-V Compliance Filing (NAESB Version 2.0 Standards) AGT to be effective 12/1/2012.

Filed Date: 9/25/12.

Accession Number: 20120925-5132.

Comments Due: 5 p.m. ET 10/9/12.

Docket Numbers: RP12-1064-000.

Applicants: Venice Gathering System, L.L.C.

Description: NAESB 2.0 Compliance Filing to be effective 12/1/2012.

Filed Date: 9/25/12.

Accession Number: 20120925-5133.

Comments Due: 5 p.m. ET 10/9/12.

Docket Numbers: RP12-1065-000.

Applicants: Steckman Ridge, LP.

Description: Order 587-V Compliance Filing (NAESB Version 2.0 Standards) SR to be effective 12/1/2012.

Filed Date: 9/25/12.

Accession Number: 20120925-5134.

Comments Due: 5 p.m. ET 10/9/12.

Docket Numbers: RP12-1066-000.

Applicants: Big Sandy Pipeline, LLC.

Description: Order 587-V Compliance Filing (NAESB Version 2.0 Standards) BSP to be effective 12/1/2012.

Filed Date: 9/25/12.

Accession Number: 20120925-5135.

Comments Due: 5 p.m. ET 10/9/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-130-003.

Applicants: Paiute Pipeline Company.

Description: NAESB 2.0 Revision to be effective 12/1/2012.

Filed Date: 9/26/12.

Accession Number: 20120926-5001.

Comments Due: 5 p.m. ET 10/9/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 26, 2012.
Nathaniel J. Davis, Sr.,
Deputy Secretary.

[FR Doc. 2012-24224 Filed 10-2-12; 8:45 am]

BILLING CODE 6717-01-P